DEPARTMENT OF COMMERCE

National Oceanic and Atmospheric Administration

RIN 0648-XB108

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Executive Committee, its Ecosystem and Ocean Planning Committee, and its Research Set-Aside (RSA) Committee will hold public meetings.

DATES: The meetings will be held Tuesday, April 10, 2012 through Thursday, April 12, 2012. See SUPPLEMENTARY INFORMATION for specific dates and times.

ADDRESSES: The Sanderling, 1461 Duck Road, Duck, NC 27949; telephone: (252) 261-4111.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Tuesday, April 10, 2012

1 p.m. until 3 p.m.—The Executive Committee will meet in a closed session.

3 p.m. until 5 p.m.—The Ecosystem and Ocean Planning Committee will meet.

5 p.m. until 6 p.m.—There will be a public listening session.

Wednesday, April 11, 2012

9 a.m. until 11 a.m.—The Executive Committee will meet.

11 a.m. until 12 p.m.—The RSA Committee will meet.

1 p.m.—The Council will convene. Swearing in of the new member will be at 1 p.m.

1 p.m. until 2 p.m.—The Council will discuss Surfclams and Ocean Quahogs.

2 p.m. until 3:30 p.m.—Finalization of Tilefish Management Measures for 2013-15 will be held.

3:30 p.m. until 5 p.m.—An Atlantic sturgeon discussion will be held.

Thursday, April 12, 2012

9 a.m. until 10 a.m.—Approval of Spiny Dogfish alternatives will be held.

10 a.m. until 10:30 a.m.—Framework 5 to Squid, Mackerel, and Butterfish will be discussed.

10:30 a.m. until 11 a.m.—Framework 6 to Squid, Mackerel, and Butterfish will be discussed.

11 a.m. until 1 p.m.—The Council will hold its regular Business Session to approve the February minutes, receive Organizational Reports, the South Atlantic Liaison Report, Executive Director's Report, Science Report, Committee Reports, and conduct any continuing and/or new business.

Agenda items by day for the Council's Committees and the Council itself are:

On Tuesday, April 10—The Executive Committee will meet in a closed session. The Ecosystem and Ocean Planning Committee will receive a presentation from the New England Fishery Management Council (NEFMC) and the South Atlantic Fishery Management Council (SAFMC) on Deep Sea Coral and discussion of Mid-Atlantic Council action will follow. The public listening session will focus on BOEM (Bureau of Ocean Energy Management—formerly BOEMRE) and wind power.

On Wednesday, April 11—The Executive Committee will discuss an Ecosystem/Ecosystem-Based Fishery Management (EBFM) document, finalize goals and objectives, purpose and need, discuss transition strategies to move EBFM, and Standardized Bycatch Reporting Methodology (SBRM) next steps. The RSA Committee will review a response letter from NOAA General Counsel, discuss integration of the Scientific and Statistical Committee (SSC) into the RSA research prioritization process, and discuss alternatives to improve the RSA program and develop recommendations to the Council. The Council will convene to swear in a new Council member. The Council will discuss reopening Georges Bank, identify any harvest restrictions, and discuss PSP testing. The Council will finalize and adopt Tilefish Management Measures for 2013-15 by reviewing the SSC and the Tilefish Monitoring Committee's recommendations for 2013-15 harvest levels and management measures. The Council will discuss potential actions to reduce Atlantic sturgeon bycatch in the Mid-Atlantic fisheries.

On Thursday, April 12—The Council will approve alternatives for analysis to Spiny Dogfish Amendment 3. The Council will take action to modify vessel hold certification requirements in Framework 5 to the Squid, Mackerel, and Butterfish FMP (Meeting 2). The Council will take action to revise a provision of Council risk policy on Framework 6 to the Squid, Mackerel, and Butterfish FMP (Meeting 2). The Council will hold its regular Business Session to approve the February 2012 minutes, receive Organizational Reports, the South Atlantic Liaison Report, the Executive Director's Report, Science Report, Committee Reports, and conduct any continuing and/or new business.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: March 19, 2012.
Tracey L. Thompson,
Acting Director, Office of Sustainable Fisheries, National Marine Fisheries Service.

[FR Doc. 2012-6905 Filed 3-21-12; 8:45 am]

BILLING CODE 3510-22-P